DEPARTMENT OF COMMERCE

National Oceanic and Atmospheric Administration

15 CFR Part 902

50 CFR Parts 679 and 680

[Docket No.: 230111-0005]

RIN 0648-BL50

Fisheries of the Exclusive Economic Zone Off Alaska; Revisions to the Economic Data Reports Requirements; Amendment 52 to the Fishery Management Plan for the Commercial King and Tanner Crab Fisheries of the Bering Sea and Aleutian Islands

AGENCY: National Marine Fisheries Service (NMFS), National Oceanic and Atmospheric Administration (NOAA), Commerce.

ACTION: Final rule.

SUMMARY: NMFS issues regulations to implement Amendment 52 to the Fishery Management Plan for the Commercial King and Tanner Crab Fisheries of the Bering Sea and Aleutian Islands (Crab FMP) and a regulatory amendment to revise regulations on Economic Data Reports (EDR) requirements for groundfish and crab fisheries off Alaska. This final rule removes third party data verification audits and blind formatting requirements from the Bering Sea and Aleutian Islands (BSAI) crab fisheries EDR, the Bering Sea American Fisheries Act (AFA) pollock fishery Chinook Salmon EDR, and the BSAI Amendment 80 fisheries EDR. This action also eliminates the EDR requirements for the Gulf of Alaska (GOA) trawl fisheries. This final rule is intended to promote the goals and objectives of the Magnuson-Stevens Fishery Conservation and Management Act (Magnuson-Stevens Act), the Crab FMP, the Fishery Management Plans for Groundfish of the Gulf of Alaska Management Area (GOA FMP) and for the Groundfish of the BSAI Management Area (BSAI FMP), and other applicable laws.

DATES: Effective March 8, 2023.

ADDRESSES: Electronic copies of Amendment 52 to the Crab FMP, the Regulatory Impact Review (referred to as the “Analysis”), and the Categorical Exclusion prepared for this rule may be obtained from http://www.regulations.gov or from the NMFS Alaska Region website at https://www.fisheries.noaa.gov/region/alaska.

Written comments regarding the burden-hour estimates or other aspects of the collection-of-information requirements contained in this final rule may be submitted by mail to NMFS Alaska Region, P.O. Box 21668, Juneau, AK 99802-1668, Attn: Assistant Regional Administrator, Sustainable Fisheries Division; and to www.reginfo.gov/public/do/PRAMain. Find the particular information collection by selecting “Currently under 30-day Review—Open for Public” or by using the search function.

FOR FURTHER INFORMATION CONTACT: Scott A. Miller 907-586-7416.

SUPPLEMENTARY INFORMATION: NMFS manages the groundfish fisheries in the exclusive economic zone (EEZ) off Alaska under the BSAI FMP and the GOA FMP. NMFS manages the king and Tanner crab fisheries in the United States EEZ of the BSAI under the Crab FMP. The North Pacific Fishery Management Council (Council) prepared, and NMFS approved, the BSAI FMP, the GOA FMP, and the Crab FMP under the authority of the Magnuson-Stevens Act, 16 U.S.C. 1801 et seq.

A notice of availability for Amendment 52 to the Crab FMP was published in the Federal Register on October 6, 2022, with comments invited through December 5, 2022 (87 FR 60638). The proposed rule to implement Amendment 52 and the regulatory amendments was published in the Federal Register on November 1, 2022, with comments invited through December 1, 2022 (87 FR 65724). NMFS received one comment letter from one member of the public. The comment is summarized and responded to under the heading “Comments and Responses” below.

A detailed review of the provisions and rationale for this action is provided in the preamble to the proposed rule and is briefly summarized in this final rule.

Background

Four EDR data collection programs are in place for crab and groundfish fisheries in the EEZ off Alaska. These programs impose mandatory annual data reporting requirements for regulated entities participating in the BSAI Crab Rationalization (CR) fisheries, the AFA pollock fishery, the BSAI Amendment 80 fisheries, and the GOA trawl fisheries. The purposes of EDRs are to gather data and information to improve the analyses developed by the Council on the social and economic effects of the catch share or rationalization programs, to understand the economic performance of participants in these programs, and to help estimate impacts of future issues, problems, or revisions to the programs covered by the EDRs.

CR Program EDR

The Crab EDR was implemented concurrently with the CR Program under Amendments 18 and 19 of the BSAI Crab FMP (70 FR 10174, March 2, 2005). The rule requiring the Crab EDR submission was codified in 50 CFR 680.6, which retroactively required participants to submit EDR forms for 1998, 2001, and 2004 calendar year operations by June 1, 2005, as well as to submit an annual Crab EDR form for calendar year 2005 and thereafter by May 1 of each following year. Amendment 42 (78 FR 36122, June 17, 2013) revised annual Crab EDR reporting requirements in order to eliminate redundant reporting requirements, standardize reporting across participants, and reduce costs associated with data collection. The amended rule extended the annual submission deadline to July 31.

The reporting requirements for the Crab EDR apply to owners and leaseholders of catcher vessels (CVs) and catcher/processors (CPs) with landings of BSAI CR crab, including Community Development Quota (CDQ) allocated crab, and owners and leaseholders of Registered Crab Receivers (RCRs) who purchase and/or process landed BSAI CR crab during a calendar year. For all groups, the annual submission requirement is imposed on CR crab program participants who harvest, purchase, or process CR crab.

The Crab EDR consists of reporting forms developed for three respective sectors: the Crab CV EDR, Crab processor EDR, and the Crab CP EDR. The CV and processor forms collect distinct sets of data elements, with the CP form combining all data elements collected in the CV form and applicable elements from the processor form. A complete list of the data elements for each of the forms is in Section 3.2 of the Analysis (see ADDRESSES).

Amendment 80 EDR

The Amendment 80 EDR was implemented on January 20, 2008 (72 FR 52668, September 14, 2007) as part of the Amendment 80 management program and codified in regulation at 50 CFR 679.94. Amendment 80 allocated several BSAI non-pollock trawl groundfish species among trawl fishery sectors and facilitated the formation of harvesting cooperatives in the non-AFA trawl CP sector. The initial Amendment 80 EDR submissions were due June 1, 2009, reporting data for the 2008 calendar year. The Amendment 80 EDR reporting requirements applied to all Amendment 80 Quota Share (QS) permit holders. Permit holders who actively operated an Amendment 80 vessel were required to complete the entire EDR form, while QS permit holders who did not operate a vessel were required to complete portions of the form pertaining to QS permit sale or lease costs and revenues.

When the GOA Trawl EDR program was implemented for both CV and CP participants, it amended the Amendment 80 EDR at 50 CFR 679.94 to include the CPs participating in GOA trawl fisheries. It also changed the name of the form from the Amendment 80 EDR to the Annual Trawl CP EDR. Additional reporting elements specific to GOA Trawl CPs were added to the form. The rule also extended the requirement to complete all portions of the EDR form to owners and leaseholders of any vessel named on a License Limitation Program (LLP) groundfish license authorizing a CP using trawl gear to harvest and process LLP groundfish species in the GOA. The association between the GOA Trawl (CV and shoreside processor) EDR and Annual Trawl CP EDR has resulted in confusion. For the sake of clarity, in this final rule, the EDR currently specified under 50 CFR 679.94 is referenced as the Amendment 80 EDR (rather than the Annual Trawl CP EDR), and the EDR under 50 CFR 679.110(a)(1) and (2) is referenced as the GOA Trawl EDR; any relevant distinctions or overlaps are described as needed.

The Amendment 80 EDR form has been submitted annually by Amendment 80 QS holders since 2008. A complete list of the data elements for each of the forms is in Section 3.2 of the Analysis (see ADDRESSES).

GOA Trawl EDR

The GOA Trawl EDR was implemented on January 1, 2015 (79 FR 71313, December 2, 2014) and codified in regulation at 50 CFR 679.110. The initial GOA Trawl EDR submissions were due June 1, 2016, for reporting 2015 calendar year data. The GOA Trawl EDR was implemented to collect relevant baseline information that could be used to assess the impacts of a future catch share program on affected harvesters, processors, and communities in the GOA. However, Council action on a catch share program that addressed issues with GOA bycatch management was suspended in December 2016, and no catch share program exists for GOA harvesters, processors, and communities.

The intended submitters for the GOA Trawl EDR includes owners and leaseholders of CVs and CPs active in the Central and Western GOA groundfish trawl fishery and operators of shoreside processing facilities that receive groundfish catch from the GOA. The EDR consists of two distinct EDR forms, the GOA Trawl CV EDR and GOA Shoreside Processor EDR. An additional EDR form overlaps with the Amendment 80 EDR, as described above.

The GOA Trawl CV EDR form is required for all trawl CVs that harvested groundfish in the GOA during the previous year. The GOA Shoreside Processor EDR form is required for all shore-based processors that receive and process groundfish from GOA trawl fisheries. The Annual Trawl CP EDR form is required for all vessel owners and leaseholders that catch and process groundfish in the GOA trawl fisheries. A complete list of the data elements for each of the forms is in Section 3.2 of the Analysis (see ADDRESSES).

Amendment 91 Chinook Salmon EDR

The Amendment 91 EDR and additional record keeping and reporting requirements associated with monitoring of Chinook salmon bycatch avoidance measures for the AFA pollock fishery were implemented concurrently on March 5, 2012 (77 FR 5389, February 3, 2012). The implementation of the Amendment 91 EDR occurred approximately 17 months after Amendment 91 (75 FR 53026, August 30, 2010) went into effect. The initial submission of EDR forms required under 50 CFR 679.65 were due on June 1, 2013, reporting data for the 2012 calendar year. The Amendment 91 EDR was implemented to provide additional data to assess the effectiveness of the Chinook salmon bycatch management measures in the Bering Sea (BS) pollock fishery.

The Amendment 91 EDR reporting requirement applies to owners and leaseholders of AFA CVs, CPs, and motherships active in the BS pollock fishery and to entities eligible to receive Chinook salmon Prohibited Species Catch (PSC) allocation, including AFA in-shore sector harvest cooperative representatives, sector-based Incentive Plan Agreement representatives, and CDQ group representatives. In addition, vessel masters who actively participate in the AFA pollock fishery are required to complete the Amendment 91 Vessel Master Survey form and NMFS allows the owner or leaseholder of the vessel to submit this information, from multiple vessel masters, electronically to reduce respondent burden.

The Amendment 91 EDR program consists of three separate forms: the Compensated Transfer Report (CTR), the Vessel Fuel Survey, and the Vessel Master Survey. The CTR collects transaction data on all compensated transfers of Chinook PSC by participants in the AFA fishery. The CTR is to be completed by all entities participating as lessor or lessee in compensated transfers of Chinook PSC. However, no such transactions have ever been reported. The Vessel Fuel Survey form is required for all AFA vessels that harvested BSAI pollock during the previous year and collects information about the vessel's average fuel consumption, the total amount in gallons of fuel loaded onto the vessel, and total annual fuel cost. The Vessel Master Survey form is used to determine the fishing and bycatch conditions observed during the BSAI pollock fishery and factors that motivated Chinook salmon bycatch avoidance. A complete list of the data elements for each of the forms is in Section 3.2 of the Analysis (see ADDRESSES).

History and Need for This Action

The Council developed this action beginning in February 2018 and made its final recommendation to NMFS after considerable public input in February 2022. This action removes third party data verification audits and blind formatting requirements from the Bering Sea and Aleutian Islands (BSAI) crab fisheries EDR, the Bering Sea American Fisheries Act (AFA) pollock fishery Chinook Salmon EDR (Amendment 91 EDR), and the BSAI Amendment 80 fisheries EDR, and eliminates the EDR requirements for the Gulf of Alaska (GOA) trawl fisheries. Removing the third party audit requirements reduces costs incurred for NMFS to administer the EDR program and associated cost recovery fees paid by industry while maintaining data quality due to the automated EDR data verification procedures that remain in place. Additionally, enforcement provisions exist for all recordkeeping and reporting requirements, including the EDR program. A detailed explanation of the history of this action and need for this action is provided in the preamble to the proposed rule and not repeated here (87 FR 65724, November 1, 2022).

Final Rule

This final rule removes or revises regulations at 50 CFR parts 679 and 680. This final rule removes third-party data verification audits for the Crab EDR, the Amendment 91 EDR, and the Amendment 80 EDR and removes blind formatting requirements for the Crab EDR. This action also eliminates the GOA Trawl EDR requirements.

Eliminating Data Verification Audits

This final rule removes the data verification audit requirements at § 679.65(e), § 679.94(b), and § 680.6(f). Removal of the audit authorization eliminates the need for the data collection agent (DCA) to contract with a third-party auditor to conduct the audit portion of the data verification. EDR data verification currently employs a series of mainly automated validation procedures, including an audit process with the DCA. Except for removal of the audit process, these data validation procedures remain and continue to ensure the data reported are error-free. Enforcement actions will continue in cases of noncompliance with the EDR provisions as part of normal enforcement of recordkeeping and reporting requirements.

This final rule also removes the definitions for “Designated data collection auditor” at § 679.2 and “Auditor” at § 680.2. Because this final rule removes the EDR audit requirements, these definitions are no longer needed.

Eliminating Blind Formatting

This final rule removes the definitions for “Blind data” at § 679.2 and § 680.2. Both definitions describe the required formatting process to remove the personal identifiers to the data collected from the EDRs. The identifiers include Federal fisheries permit numbers and State of Alaska vessel registration numbers that are essential data elements to analysts when developing reports and documents based on EDR data. Removing the blind formatting requirements makes the data aggregations and confidentiality protections for the Crab EDR comparable to the requirements under the other EDR programs. It also increases the usability and access to the EDR data for Council and NMFS analysts.

Eliminating the GOA Trawl EDR

This final rule removes and reserves Subpart J—Gulf of Alaska Trawl Economic Data. The original purpose of the GOA Trawl EDR was to establish a baseline information collection that could be used to assess the impacts of a catch share program. However, no catch share program has been developed to date or is currently contemplated. The original need for this data collection program has diminished since 2016 when the Council suspended work on a possible GOA catch share program, calling into question the efficacy of continuing the program. Eliminating the GOA Trawl EDR removes compliance costs for industry as well as agency costs, as the GOA Trawl fishery is not managed under a catch share program subject to cost recovery.

This final rule also revises the section heading at § 679.94 and revises § 679.94(a)(1) to remove GOA Trawl CPs from the requirement to submit the Amendment 80 EDR form. When the GOA Trawl EDR program was implemented, it required owners and leaseholders of any vessel named on an LLP groundfish license authorizing a CP using trawl gear to harvest and process LLP groundfish species in the GOA to complete all portions of the Amendment 80 EDR form. This final rule limits the Amendment 80 EDR requirement to Amendment 80 QS permit holders alone.

Comments and Responses

NMFS received one unique comment from one member of the public on the proposed rule.

Comment 1: The commenter asserts that removing data verification allows increasing corruption in management of the North Pacific fishery. The commenter further asserts that corrupt management by this agency will result in fish species going extinct and further asserts that this has happened in most areas managed by this agency. The commenter further asserts that the commercial fishing industry has undue influence in the management process and that management of the public resource is being compromised by excessive quotas resulting in starvation, and human predation, of marine mammals. Finally, the commenter asserts that there is no environmental conservation occurring, that there is no reason for this action, and that the action is objectionable.

Response: NMFS acknowledges the comment regarding the proposed rule's inadvertent removal of the DCA data verification process in regulatory text edits. In accordance with the proposed rule's goal, this final rule revises the regulations to remove only the authorization for data verification audits. This final rule retains data verification regulations and data verification procedures remain in place. This final rule eliminates the automated audits of EDR submissions, as analysis has shown that no data verification audit, over the entire history of the EDR program, has resulted in a finding of noncompliance. The remainder of the comment is outside of the scope of this action. This final rule addresses the collection of EDR data and is not intended to broadly manage commercial or subsistence fisheries. NMFS manages commercial, recreational, and subsistence fisheries consistent with the provisions of the Magnuson-Stevens Act and other applicable law.

Changes From Proposed to Final Rule

NMFS made three changes to the final rule that are related to both the comment received on the proposed rule and internal review. Namely, this final rule corrects inadvertent errors in the regulatory text included in the proposed rule. The preamble to the proposed rule accurately stated that, except for the audit component, the data verification process would remain in place. And, indeed, the Council did not recommend removal of the data verification process by the DCA and the Analysis prepared in support of this action specifically indicates that the data verification procedures will continue. But the proposed rule regulatory text edits inadvertently proposed deleting data verification processes that were meant to remain in place. This final rule corrects those errors as further detailed below.

First, in § 679.65, which describes the Chinook Salmon EDR program, NMFS inadvertently proposed deleting the entirety of paragraph (e), which includes regulation text describing both the EDR verification and audit procedures. This final rule revises the introductory text to paragraph (e) to remove the references to audit procedures and the associated designated data collection auditor (DDCA). Paragraph (e)(1) is revised to change the reference to the DDCA to the DCA; paragraph (e)(2), which describes the audit process, is removed. Second, in § 679.94, NMFS inadvertently proposed removing the entirety of paragraph (b), which includes regulations pertaining to both the EDR verification process and the audit process. This final rule revises paragraph (b)(1) and (2) to remove only the reference to the DDCA; paragraph (b)(3), which describes the audit process, is removed. Third, NMFS inadvertently proposed removing the entirety of §§ 680.6(f) and (g). This final rule removes only paragraph (f)(3), in order to remove the requirement to provide copies of additional data to the DDCA. Removal of paragraph (f)(3) is consistent with the removal of the third party audit process. Paragraph (g) remains unchanged from the proposed rule and provides the DCA with the authorization to request voluntary submission of economic data that may be used in the data verification process, which will remain in place after the removal of the third party audit process.

Other Regulatory Changes

This final rule revises regulations at §§ 680.6(a)(2), (a)(3), (c), (d), (e)(1), and (e)(2) to update the instructions for submitting Crab EDR forms to be consistent with the submission instructions for the Amendment 80 EDR implemented in 2008.

OMB Revisions to PRA References in 15 CFR 902.1(b)

Section 3507(c)(B)(i) of the Paperwork Reduction Act (PRA) requires that agencies inventory and display a current control number assigned by the Director of the Office of Management and Budget (OMB) for each agency's information collection. Section 902.1(b) identifies the location of NOAA regulations for which OMB approval numbers have been issued. Because this rule discontinued the collection-of-information for OMB Control Number 0648-0700 and removes § 679.110, 15 CFR 902.1(b) is revised to correctly reference these changes.

Classification

Pursuant to sections 304(b) and 305(d) of the Magnuson-Stevens Act, the NMFS Assistant Administrator has determined that this final rule is consistent with the FMPs, other provisions of the Magnuson-Stevens Act, and other applicable law.

This final rule has been determined to be not significant for the purposes of Executive Order 12866.

Certification Under the Regulatory Flexibility Act

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Regulatory Impact Review

A Regulatory Impact Review was prepared to assess all costs and benefits of available regulatory alternatives. A copy of this analysis is available from NMFS (see ADDRESSES). The Council recommended Amendment 52 and the regulatory revisions in this final rule based on those measures that maximized net benefits to the Nation. Specific aspects of the economic analysis are discussed above in the Certification under the Regulatory Flexibility Act section.

Collection-of-Information Requirements

This final rule contains information collection requirements subject to the PRA and which have been approved by the Office of Management and Budget OMB. OMB has approved discontinuing OMB Control Number 0648-0700 (Gulf of Alaska Catcher Vessel and Processor Trawl EDR), which covered the economic data collection requirements for the GOA Trawl EDR Program. OMB Control Number 0648-0700 was discontinued on December 31, 2022.

This final rule contains collection of information requirements subject to review and approval by OMB under the PRA. NMFS has submitted these requirements to OMB for approval under OMB control numbers 0648-0518 (Alaska Region Bering Sea and Aleutian Islands Crab EDRs); 0648-0564 (Groundfish Trawl Catcher/Processor EDR); and 0648-0633 (Alaska Chinook Salmon EDR). The public reporting burden for the information collection requirements provided below includes the time for reviewing instructions, searching existing data sources, gathering and maintaining the data needed, and completing and reviewing the collection of information.

OMB Control Number 0648-0518

NMFS revises and extends by three years OMB Control Number 0648-0518. This collection covers the economic data collection requirements for the CR Program and is necessary to monitor and evaluate the CR Program.

This collection is revised to remove third-party data verification audits and blind formatting requirements for the BSAI crab fisheries EDR because this final rule removes these requirements. The three crab EDR forms are revised to pre-fill data fields that do not change frequently to reduce the burden of the crab EDR forms. Pre-filling the data fields is estimated to reduce the respondent's data entry time by 15 minutes. However, since the burden hour estimates for the forms are rounded to the nearest hour, this modest reduction will not decrease the public reporting burden.

Public reporting burden per individual response is estimated to average 20 hours each for the Annual Catcher Vessel Crab EDR and the Annual CP Crab EDR, 16 hours for the Annual Processor Crab EDR, and 1 hour for an EDR certification page.

The estimated number of respondents for this collection is 77; the estimated total annual burden hours is 1,449 hours; and the estimated total annual cost to the public for recordkeeping and reporting costs is $385.

OMB Control Number 0648-0564

NMFS revises and extends by three years OMB Control Number 0648-0564. This collection covers the economic data collection requirements for Amendment 80 and GOA trawl CPs. This collection is necessary to help evaluate the Amendment 80 Program, including program-eligible trawl CPs, and is used by NMFS and the Council to assess the impacts of major changes in the groundfish management regime, including programs for prohibited species catch species and target species.

This collection is revised to remove third-party data verification audits for the Annual Trawl Catcher/Processor EDR and remove requirements for the GOA Trawl EDR Program because this final rule removes regulations for the audit authorization and eliminates the GOA Trawl EDR Program. Eliminating the program simplifies the Annual Trawl Catcher/Processor form. This form is revised to remove data fields that are not being used in analyses and to pre-fill data fields that do not change frequently. These changes to the form are expected to reduce the time burden per respondent by approximately two hours.

Public reporting burden per individual response is estimated to average 20 hours for the Annual GOA Trawl Catcher/Processor EDR.

The estimated number of respondents for this collection is 22; the estimated total annual burden hours are 440 hours; and the estimated total annual cost to the public for recordkeeping and reporting costs is $110.

OMB Control Number 0648-0633

NMFS revises OMB Control Number 0648-0633 to remove the verification audit for the Compensated Transfer Report because this final rule removes the authorization for third party data verification audits.

Public reporting burden per individual response is estimated to average 40 hours for the Compensated Transfer Report, 4 hours for the Vessel Fuel Survey, and 4 hours for the Vessel Master Survey.

Public Comment

We invite the general public and other Federal agencies to comment on proposed and continuing information collections, which helps us assess the impact of our information collection requirements and minimize the public's reporting burden. Written comments and recommendations for these information collections should be submitted on the following website: http://www.reginfo.gov/public/do/PRAMain. Find the particular information collection by using the search function and entering either the title of the collection or the OMB Control Number.

Notwithstanding any other provisions of law, no person is required to respond to, and no person shall be subject to penalty for failure to comply with, a collection of information subject to the requirements of the PRA, unless that collection of information displays a currently valid OMB control number. All currently approved NOAA collections of information may be viewed at https://www.reginfo.gov/public/do/PRASearch.

List of Subjects

15 CFR Part 902

Reporting and recordkeeping requirements.

50 CFR Part 679

Alaska, Fisheries, Reporting and recordkeeping requirements.

50 CFR Part 680

Alaska, Reporting and recordkeeping requirements.

Dated: January 27, 2023.
Samuel D. Rauch, III,
Deputy Assistant Administrator for Regulatory Programs, National Marine Fisheries Service.

For the reasons set out in the preamble, NMFS amends 15 CFR part 902 and 50 CFR parts 679 and 680 as follows:

Title 15—Commerce and Foreign Trade

PART 902—NOAA INFORMATION COLLECTION REQUIREMENTS UNDER THE PAPERWORK REDUCTION ACT: OMB CONTROL NUMBERS

1. The authority citation for part 902 continues to read as follows:

Authority: 44 U.S.C. 3501 et seq.

§ 902.1 [Amended]

2. In § 902.1, in the table in paragraph (b), under the heading “50 CFR”, remove the entry for “679.110(a) through (f)”.

* * * * *

Title 50—Wildlife and Fisheries

PART 679—FISHERIES OF THE EXCLUSIVE ECONOMIC ZONE OFF ALASKA

3. The authority citation for 50 CFR part 679 continues to read as follows:

Authority: 16 U.S.C. 773 et seq.; 1801 et seq.; 3631 et seq.; Pub. L. 108-447; Pub. L. 111-281.

§ 679.2 [Amended]

4. In § 679.2, remove the definitions for “Blind data” and “Designated data collection auditor”.

5. In § 679.65, revise paragraph (e) to read as follows:

§ 679.65 Bering Sea Chinook Salmon Bycatch Management Program Economic Data Report (Chinook salmon EDR program).

* * * * *

(e) Chinook salmon EDR verification procedures. NMFS or the data collection agent (DCA) will conduct verification of Chinook salmon EDR information with the persons identified at § 679.65(b)(1), (b)(2), (c)(1), (d)(1)(i), and (d)(1)(ii).

(1) The persons identified at § 679.65(b)(1), (b)(2), (c)(1), (d)(1)(i), and (d)(1)(ii) must respond to inquiries by NMFS and its DCA for purposes of the CTR, within 20 days of the date of issuance of the inquiry.

(2) [Reserved].

6. In § 679.94, revise the section heading, paragraph (a)(1), paragraphs (b)(1) and (2), and remove paragraph (b)(3) to read as follows:

§ 679.94 Economic data report (EDR) for the Amendment 80 sector.

(a) * * *

(1) Requirement to submit an EDR. A person who held an Amendment 80 QS permit during a calendar year must submit a complete Annual Trawl Catcher/Processor EDR for that calendar year by following the instructions on the Annual Trawl Catcher/Processor EDR form.

* * * * *

(b) * * * (1) NMFS or the DCA will conduct verification of information with a person required to submit the Annual Trawl Catcher/Processor EDR, or if applicable, that person's designated representative.

(2) A person required to submit the Annual Trawl Catcher/Processor EDR or designated representative, if applicable, must respond to inquiries by NMFS, the DCA within 20 days of the date of issuance of the inquiry.

* * * * *

Subpart J—[Removed and Reserved]

7. Remove and reserve subpart J, consisting of § 679.110.

PART 680—SHELLFISH FISHERIES OF THE EXCLUSIVE ECONOMIC ZONE OFF ALASKA

8. The authority citation for 50 CFR part 680 continues to read as follows:

Authority: 16 U.S.C. 1862; Pub. L. 109-241; Pub. L. 109-479.

§ 680.2 [Amended]

9. In § 680.2, remove the definitions for “Auditor” and “Blind data”.

10. In § 680.6, revise paragraphs (a)(2) and (3), (c), (d), (e)(1) and (2), and remove paragraph (f)(3) to read as follows:

§ 680.6 Crab economic data report (EDR).

(a) * * *

(2) A completed EDR or EDR certification pages must be submitted to NMFS, in the manner specified on the NMFS-issued EDR form, for each calendar year on or before 1700 hours, A.l.t., July 31 of the following year.

(3) Annual EDR forms for catcher vessels, catcher/processors, shoreside crab processors, and stationary floating crab processors are available on the NMFS Alaska Region website at https://alaskafisheries.noaa.gov or by contacting NMFS at 1-800-304-4846.

* * * * *

(c) Annual catcher vessel crab EDR. Any owner or leaseholder of a catcher vessel that landed CR crab in the previous calendar year must submit to NMFS, in the manner specified on the NMFS-issued EDR form, a completed catcher vessel EDR for annual data for the previous calendar year.

(d) Annual catcher/processor crab EDR. Any owner or leaseholder of a catcher/processor that harvested or processed CR crab in the previous calendar year must submit to NMFS, in the manner specified on the NMFS-issued EDR form, a completed catcher/processor EDR for annual data for the previous calendar year.

(e) * * * (1) Any owner or leaseholder of an SFCP or a shoreside crab processor that processed CR crab, including custom processing of CR crab performed for other crab buyers, in the previous calendar year must submit to NMFS, in the manner specified on the NMFS-issued EDR form, a completed processor EDR for annual data for the previous calendar year.

(2) Any holder of a registered crab receiver (RCR) permit that obtained custom processing for CR Program crab in the previous calendar year must submit to NMFS, in the manner specified on the NMFS-issued EDR form, a completed processor EDR for annual data for the previous calendar year.

* * * * *

[FR Doc. 2023-02117 Filed 2-3-23; 8:45 am]

BILLING CODE 3510-22-P